SECURITIES AND EXCHANGE COMMISSION

Issuer Delisting; Notice of Application To Withdraw From Listing and Registration on the Pacific Exchange (Lowe's Companies, Inc., Common Stock, $.50 Par Value) File No. 1-7898

July 31, 2001.

Lowe's Companies, Inc., a North Carolina corporation (“Issuer”), has filed an application with the Securities and Exchange Commission (“Commission”), pursuant to Section 12(d) of the Securities Exchange Act of 1934 (“Act”) ¹ and Rule 12d2-2(d) thereunder,² to withdraw its Common Stock, $.50 par value, (“Security”), from listing and registration on the Pacific Exchange (“PCX”).

¹ 15 U.S.C. 78l(d).

² 17 CFR 240.12d2-2(d).

The Issuer stated in its application that it has met the requirements of the PCX's rules governing an issuer's voluntary withdrawal of a security from listing and registration. In a letter dated July 23, 2001, the PCX approved the Issuer's request to be removed from listing and registration on the PCX.

The Issuer stated that it made the decision to withdraw the Security from listing on the Exchange because it no longer deemed it necessary for the benefit of its shareholders to list its share on the PCX. According to the Issuer, the expense of registration outweighed any value to its shareholders. The Issuer represents that the Security will continue to be listed and traded on the New York Stock, Inc. (“NYSE”). The application relates solely to the withdrawal of the Security from listing on the PCX and shall have no effect upon its listing on the NYSE or its registration under section 12(b) of the Act.³

³ 15 U.S.C. 78l(b).

Any interested person may, on or before August 17, 2001 submit by letter to the Secretary of the Securities and Exchange Commission, 450 Fifth Street, NW., Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 01-19578 Filed 8-3-01; 8:45 am]

BILLING CODE 8010-01-M